DEPARTMENT OF TRANSPORTATION

Maritime Administration

[Docket No. MARAD-2025-0005]

Request for Comments on the Reinstatement of a Previously Approved Collection: United States Marine Highway Program

AGENCY: Maritime Administration, Department of Transportation.

ACTION: Notice.

SUMMARY: The Maritime Administration (MARAD) invites public comments on our intention to request the Office of Management and Budget (OMB) approval to renew an information collection in accordance with the Paperwork Reduction Act of 1995. The proposed collection OMB 2133-0541 (United States Marine Highway Program) (the Program) will be used to evaluate and review applications being submitted for grant award consideration. The James M. Inhofe National Defense Authorization Act for Fiscal Year 2023 made substantive changes to the Program, including eliminating the requirement for MARAD to designate projects before they are eligible to compete from grants. As a result, on August 28, 2023, MARAD discontinued this collection. The Maritime Administration intends to reinstate this collection to facilitate operation of the Program, which provides funding to develop, expand, or promote marine highway transportation or shipper use of marine highway transportation, this collection is being reinstated. We are required to publish this notice in the Federal Register to obtain comments from the public and affected agencies.

ADDRESSES: Written comments and recommendations for the proposed information collections should be sent within 30 days of publication of this notice to www.reginfo.gov/public/do/PRAMain. Find this information collection by selecting “Currently under 30-day Review—Open for Public Comments” or by using the search function.

FOR FURTHER INFORMATION CONTACT: Timothy Pickering, 202-366-0704, Office of Ports & Waterways Planning, Maritime Administration, 1200 New Jersey Ave. SE, Washington, DC 20590, Email: timothy.pickering@dot.gov.

SUPPLEMENTARY INFORMATION:

Title: United States Marine Highway Program.

OMB Control Number: 2133-0541.

Type of Request: Reinstatement of a previously approved information collection.

Abstract: The Department of Transportation will solicit grant applications for Marine Highway Grant funding should Congress appropriate funding. In the event of such appropriations, MARAD will publish a Notice of Funding Opportunity that will include instructions for applicants and Administration priorities for the Program.

Respondents: States, political subdivisions of a State, or a local government, a United States metropolitan planning organization, a United States port authority, a Tribal government, or a United States private sector operator of marine highway projects.

Affected Public: Vessel Operators.

Estimated Number of Respondents: 25.

Estimated Number of Responses: 225.

Annual Estimated Total Annual Burden Hours: 1,700.

Frequency of Response: Annually.

A 60-day Federal Register Notice soliciting comments on this information collection was published on December 6, 2024 (FR 97167, Vol. 89, No. 235).

(Authority: The Paperwork Reduction Act of 1995; 44 U.S.C. chapter 35, as amended; 49 CFR 1.49.)

By Order of the Executive Director in lieu of the Maritime Administrator.

T. Mitchell Hudson, Jr.,
Secretary, Maritime Administration.

[FR Doc. 2025-04563 Filed 3-18-25; 8:45 am]

BILLING CODE 4910-81-P